DEPARTMENT OF TRANSPORTATION

Office of the Secretary

[Docket No. OST 98-3304]

Amendments to Foreign Air Carrier Family Assistance Plans Pursuant to Vision 100—Century of Aviation Reauthorization Act

AGENCY: Office of the Secretary, (OST), DOT.

ACTION: Notice.

SUMMARY: The Department is publishing the following notices regarding the obligation of foreign air carriers to amend their Family Assistance Plans in accordance with section 809 of Vision 100—Century of Aviation Reauthorization Act (Pub. L. 108-176; 117 Stat. 2490, December 12, 2003).

FOR FURTHER INFORMATION CONTACT: Dayton Lehman, Jr., Deputy Assistant General Counsel, Office of Aviation Enforcement and Proceedings (C-70), 400 7th Street, SW., Washington, DC 20590, (202) 366-9349.

SUPPLEMENTARY INFORMATION:

Requirement That Foreign Air Carriers Amend Plans To Address the Needs of Families of Passengers Involved in Aircraft Accidents

This is to advise foreign air carriers serving the United States that the Vision 100—Century of Aviation Reauthorization Act (Pub. L. 108-176, 117 Stat. 2490, December 12, 2003) amends 49 U.S.C. 41313(c) to require, among other things, that foreign air carriers submit to the Department of Transportation (Department) and the National Transportation Safety Board (NTSB) additional assurances for their respective plans to address the needs of families of passengers involved in aircraft accidents. The content and filing requirements for the update to the plans applicable to foreign air carriers are set forth in section 809 of Vision 100. A copy of section 809 and an electronic version of this document are available on the World Wide Web at http://dms.dot.gov.

The additional assurances required to be submitted are described in paragraph (b) of section 809 of Vision 100. In accordance with paragraph (c), foreign air carriers must submit their updated plans to the Department and the NTSB within 90 days of the statute's enactment. Since Vision 100 was signed into law on December 12, 2003, updated plans are due to be filed not later than March 11, 2004. Plans should be submitted to the Department and the NTSB at the following addresses:

Dockets—Dockets OST 98-3304, U.S. Department of Transportation, 400 Seventh Street, SW., Room PL 401, Washington, DC 20590.

Erik Grosof, Office of Transportation Disaster Assistance, National Transportation Safety Board, 490 L'Enfant Plaza East, SW., Washington, DC 20594.

We note that the Department has exempted from the requirements of section 41313 those foreign air carriers that currently hold, or may subsequently receive, Departmental authority to conduct operations in foreign air transportation using only small aircraft. (Order 98-1-31, issued February 3, 1998.) For purposes of the exemption, small aircraft are those designed to have a maximum passenger capacity of not more than 60 seats or a maximum payload capacity of not more than 18,000 pounds. Unless a foreign air carrier falls within the above exemption, the requirements of section 41313 apply to all foreign air carriers that currently hold, or may subsequently receive, Departmental authority to conduct operations in foreign air transportation, including those holding only all-cargo authority.

Each foreign air carrier should submit its plan in its entirety, that is, the plan as it exists with the new assurances as set forth in Vision 100. We expect each affected foreign air carrier to give a high priority to the timely preparation and submission of its updated plan. We remind each foreign air carrier that, if it chooses to contract with an outside source to act as a point of contact and to provide services covered in the assurances, full responsibility for complying with the provisions of the law nevertheless remains with the foreign air carrier.

We would also like to take this opportunity to request, on behalf of the NTSB, that each foreign air carrier provide the NTSB an updated 24-hour telephone number for its operations center for use in the event of an emergency, and that the number be updated with the NTSB in the future as necessary.

Questions concerning contents of the plans may be addressed to Erik Grosof, Office of Transportation Disaster Assistance, NTSB, at (202) 314-6189. Questions concerning the applicability of the requirements of section 41313 to a particular foreign air carrier should be addressed to Dayton Lehman, Jr., Deputy Assistant General Counsel for Aviation Enforcement and Proceedings, DOT, at (202) 366-9342.

Dated: January 20, 2004.
Samuel Podberesky,
Assistant General Counsel for Aviation Enforcement and Proceedings.

[FR Doc. 04-1640 Filed 1-23-04; 10:31 am]

BILLING CODE 4910-62-P